DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2420; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On December 23, 2020, OFAC determined that the property and interests in property subject to U.S. jurisdiction of the following persons are blocked under the relevant sanctions authority listed below.

Individual

1. KAZAKEVICH, Henadz Arkadzievich (Cyrillic: КАЗАКЕВIЧ, Генадзь Аркадзьевiч) (a.k.a. KAZAKEVICH, Genadz Arkadzievich; a.k.a. KAZAKEVICH, Gennadi; a.k.a. KAZAKEVICH, Gennadi Arkadievich (Cyrillic: КАЗАКЕВИЧ, Геннадий Аркадьевич); a.k.a. KAZAKEVICH, Gennady (Cyrillic: КАЗАКЕВИЧ, Геннадий); a.k.a. KAZAKEVICH, Gennady Arkadyevich; a.k.a. KAZAKEVICH, Henadz), Minsk, Belarus; DOB 14 Feb 1975; POB Minsk, Belarus; nationality Belarus; Gender Male (individual) [BELARUS].

Designated pursuant to section 1(a)(ii)(A) of Executive Order 13405 of June 16, 2006, “Blocking Property of Certain Persons Undermining Democratic Processes or Institutions in Belarus,” 71 FR 35485, 3 CFR 13405 (E.O. 13405) for being responsible for, or having participated in, actions or policies that undermine democratic processes or institutions in Belarus.

Entities

1. CENTRAL COMMISSION OF THE REPUBLIC OF BELARUS ON ELECTIONS AND HOLDING REPUBLICAN REFERENDA (a.k.a. BELARUSIAN CENTRAL ELECTION COMMISSION; a.k.a. CEC BELARUS; a.k.a. TSENTRALNAYA KAMISIYA RESPUBLIKI BELARUS PA VYBARAKH I PRAVYADZENNI RESPUBLIKANSKIKH REFERENDUMAU (Cyrillic: ЦЭНТРАЛЬНАЯ КАМІСІЯ РЭСПУБЛІКІ БЕЛАРУСЬ ПА ВЫБАРАХ І ПРАВЯДЗЕННІ РЭСПУБЛІКАНСКІХ РЭФЕРЭНДУМАУ); a.k.a. TSENTRALNAYA KOMISSIYA RESPUBLIKI BELARUS PO VYBORAM I PROVEDENIYU RESPUBLIKANSKIKH REFERENDUMOV (Cyrillic: ЦЕНТРАЛЬНАЯ КОМИССИЯ РЕСПУБЛИКИ БЕЛАРУСЬ ПО ВЫБОРАМ И ПРОВЕДЕНИЮ РЕСПУБЛИКАНСКИХ РЕФЕРЕНДУМОВ)), 11 Sovetskaya St., House of Government, Minsk 220010, Belarus [BELARUS].

Designated pursuant to section 1(a)(ii)(A) of Executive Order 13405 of June 16, 2006, “Blocking Property of Certain Persons Undermining Democratic Processes or Institutions in Belarus,” 71 FR 35485, 3 CFR 13405 (E.O. 13405) for being responsible for, or having participated in, actions or policies that undermine democratic processes or institutions in Belarus.

2. KGB ALPHA (Cyrillic: КГБ АЛЬФА) (a.k.a. ALFA SPETZNAZ; a.k.a. KGB ALFA; a.k.a. “ALPHA GROUP”; a.k.a. “ALPHA UNIT”), Minsk, Belarus [BELARUS].

Designated pursuant to section 1(a)(ii)(A) of Executive Order 13405 of June 16, 2006, “Blocking Property of Certain Persons Undermining Democratic Processes or Institutions in Belarus,” 71 FR 35485, 3 CFR 13405 (E.O. 13405) for being responsible for, or having participated in, actions or policies that undermine democratic processes or institutions in Belarus.

3. MAIN INTERNAL AFFAIRS DIRECTORATE OF THE MINSK CITY EXECUTIVE COMMITTEE (Cyrillic: ГЛАВНОЕ УПРАВЛЕНИЕ ВНУТРЕННИХ ДЕЛ МИНСКОГО ГОРОДСКОГО ИСПОЛНИТЕЛЬНОГО КОМИТЕТА) (a.k.a. GLAVNOYE UPRAVLENIE VNUTRENNIKH DEL MINSKOVO GORISPOLKOMA; a.k.a. MINSK GUVD (Cyrillic: ГУВД МИНСК); a.k.a. THE GENERAL DIRECTORATE OF INTERNAL AFFAIRS OF MINSK CITY EXECUTIVE COMMITTEE), Dobromislenski Lane, 5, Minsk, Belarus (Cyrillic: пер.Добромысленский,5, г.Минск, Belarus) [BELARUS].

Designated pursuant to section 1(a)(ii)(A) of Executive Order 13405 of June 16, 2006, “Blocking Property of Certain Persons Undermining Democratic Processes or Institutions in Belarus,” 71 FR 35485, 3 CFR 13405 (E.O. 13405) for being responsible for, or having participated in, actions or policies that undermine democratic processes or institutions in Belarus.

4. MINSK SPECIAL PURPOSE POLICE UNIT (Cyrillic: МИНСКИЙ ОТРЯД МИЛИЦИИ ОСОБОГО НАЗНАЧЕНИЯ) (a.k.a. MINSK OMON (Cyrillic: МИНСК ОМОН); a.k.a. MINSK OTRYAD MILITSII OSOBOVO NAZNACHENIYA; a.k.a. MINSK SPECIAL PURPOSE MOBILE UNIT; a.k.a. MINSK SPECIAL TASK POLICE FORCE), Heroes of the 120th Division St, 42, Minsk, Belarus (Cyrillic: ул.Героев 120-й дивизии, 42, г.Минск, Belarus) [BELARUS].

Designated pursuant to section 1(a)(ii)(A) of Executive Order 13405 of June 16, 2006, “Blocking Property of Certain Persons Undermining Democratic Processes or Institutions in Belarus,” 71 FR 35485, 3 CFR 13405 (E.O. 13405) for being responsible for, or having participated in, actions or policies that undermine democratic processes or institutions in Belarus.

Dated: December 23, 2020.
Bradley T. Smith,
Deputy Director, Office of Foreign Assets Control, U.S. Department of the Treasury.

[FR Doc. 2020-28863 Filed 12-29-20; 8:45 am]

BILLING CODE 4810-AL-P